CONSUMER PRODUCT SAFETY COMMISSION

Sunshine Act Meeting Notice

TIME AND DATE: Wednesday, April 1, 2020; 1:30 p.m.

PLACE: via Teleconference.

STATUS: Commission Meeting—Closed to the Public.

MATTER TO BE CONSIDERED: Compliance Matters: Staff will brief the Commission on the status of specific compliance matters.

CONTACT PERSON FOR MORE INFORMATION: Alberta E. Mills, Secretary, Division of the Secretariat, Office of the General Counsel, U.S. Consumer Product Safety Commission, 4330 East West Highway, Bethesda, MD 20814, (301) 504-7479.

Dated: March 25, 2020.
Alberta E. Mills,
Secretary.

[FR Doc. 2020-06527 Filed 3-25-20; 11:15 am]

BILLING CODE 6355-01-P